FEDERAL COMMUNICATIONS COMMISSION

47 CFR Part 52

[WC Docket No. 18-336; Report No. 3159; FRS 17236]

Petition for Reconsideration of Action in Proceedings

AGENCY: Federal Communications Commission.

ACTION: Petition for Reconsideration.

SUMMARY: Petition for Reconsideration (Petition) has been filed in the Commission's proceeding by Patrick J. Whittle, on behalf of Communications Equality Advocates.

DATES: Oppositions to the Petition must be filed on or before December 2, 2020. Replies to an opposition must be filed on or before December 14, 2020.

ADDRESSES: Federal Communications Commission, 445 12th Street SW, Washington, DC 20554.

FOR FURTHER INFORMATION CONTACT: Jamie McCoy, Wireline Competition Bureau, (202) 418-2320.

SUPPLEMENTARY INFORMATION: This is a summary of the Commission's document, Report No. 3159, released October 22, 2020. The full text of the Petition can be accessed online via the Commission's Electronic Comment Filing System at: http://apps.fcc.gov/ecfs/. The Commission will not send a Congressional Review Act (CRA) submission to Congress or the Government Accountability Office pursuant to the CRA, 5 U.S.C. 801 (a)(1)(A), because no rules are being adopted by the Commission.

Subject: Implementation of the National Suicide Hotline Improvement Act of 2018, FCC 20-100, published 85 FR 57767, September 16, 2020 in WC Docket No. 18-336. This document is being published pursuant to 47 CFR 1.429(e). See also 47 CFR 1.4(b)(1) and 1.429(f), (g).

Number of Petitions Filed: 1.

Federal Communications Commission.
Marlene Dortch,
Secretary, Office of the Secretary.

[FR Doc. 2020-25247 Filed 11-16-20; 8:45 am]

BILLING CODE 6712-01-P